DEPARTMENT OF COMMERCE

National Oceanic and Atmospheric Administration

[RTID 0648-XC077]

South Atlantic Fishery Management Council (Council); Public Meetings

AGENCY: National Marine Fisheries Service (NMFS), National Oceanic and Atmospheric Administration (NOAA), Commerce.

ACTION: Notice of meetings of Wreckfish shareholders and the South Atlantic Fishery Management Council's Spiny Lobster Advisory Panel and Golden Crab Advisory Panel.

SUMMARY: The Council will hold a meeting of Wreckfish shareholders, and the Spiny Lobster Advisory Panel and Golden Crab Advisory Panel.

DATES: The Wreckfish shareholders meeting will be held June 28, 2022, from 1 p.m. until 5:30 p.m. EDT; the Spiny Lobster Advisory Panel meeting on June 29, 2022. from 8:30 a.m. until 5 p.m. EDT; and the Golden Crab Advisory Panel meeting June 30, 2022, from 8:30 a.m. until 12 p.m. EDT.

ADDRESSES:

Meeting address: The meetings will be held at the Reefhouse, Resort and Marina, 103800 Overseas Highway, Key Largo, FL 33037; phone: (305) 453-0000.

The meetings will also be available via webinar. Registration is required. Webinar registration, an online public comment form, and briefing book materials will be available two weeks prior to the meeting at: https://safmc.net/safmc-meetings/.

Council address: South Atlantic Fishery Management Council, 4055 Faber Place Drive, Suite 201, N Charleston, SC 29405.

FOR FURTHER INFORMATION CONTACT: Christina Wiegand, Fishery Social Scientists, SAFMC; phone: (843) 571-4366 or toll free: (866) SAFMC-10; fax: (843) 769-4520; email: christina.wiegand@safmc.net.

SUPPLEMENTARY INFORMATION: Wreckfish shareholders will meet to discuss Amendment 48 to the Fishery Management Plan for the Snapper Grouper Fishery of the South Atlantic, which addresses modernization of the Wreckfish Individual Transferable Quota Program and discuss other business as needed. The Spiny Lobster Advisory Panel will update their fishery performance report, discuss areas currently closed to lobster traps to protect threatened corals in federal waters off the Florida Keys, discuss the Florida Keys National Marine Sanctuary Restoration Blueprint, if available, and discuss other business as needed. The Golden Crab Advisory Panel will complete a fishery performance report and discuss other business as needed.

Fishery performance reports assemble information from the Council's fishery advisory panel members' experience and observations on the water and in the marketplace to complement scientific and landings data and inform management decisions.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: June 2, 2022.
Tracey L. Thompson,
Acting Deputy Director, Office of Sustainable Fisheries, National Marine Fisheries Service.

[FR Doc. 2022-12246 Filed 6-6-22; 8:45 am]

BILLING CODE 3510-22-P